DEPARTMENT OF JUSTICE

Antitrust Division

Notice Pursuant to the National Cooperative Research and Production Act of 1993—Joint Venture To Perform Project Entitled Versatile Onboard Traffic Embedded Roaming Sensors (“VOTERS”)

Notice is hereby given that, on February 10, 2009, pursuant to Section 6(a) of the National Cooperative Research and Production Act of 1993, 15 U.S.C. 4301 et seq. (“the Act”) Joint Venture to Perform Project Entitled Versatile Onboard Traffic Embedded Roaming Sensors (“VOTERS”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Northeastern University, Boston, MA; University of Massachusetts Lowell, Lowell, MA; University of Vermont and State Agricultural College, Burlington, VT; and Witten Technologies, Inc., Somerville, MA. The general area of VOTERS's planned activity is to develop new products from groundbreaking advanced technologies that inspect and monitor infrastructure using sensors.

Patricia A. Brink,
Deputy Director of Operations, Antitrust Division.

[FR Doc. E9-5268 Filed 3-12-09; 8:45 am]

BILLING CODE 4410-11-M